DEPARTMENT OF COMMERCE

National Oceanic and Atmospheric Administration

RIN 0648-AW83

Atlantic Highly Migratory Species (HMS); Caribbean Management Measures

AGENCY: National Marine Fisheries Service (NMFS), National Oceanic and Atmospheric Administration (NOAA), Commerce.

ACTION: Notice of availability; notice of public scoping meetings.

SUMMARY: NMFS previously published, on May 27, 2008, a notice of intent (NOI) to initiate an amendment to the 2006 Consolidated Highly Migratory Species (HMS) Fishery Management Plan (FMP), including preparation of an Environmental Impact Statement. NMFS now announces the availability of an issues and options document describing potential measures for inclusion in the proposed Amendment 4 to the Consolidated HMS FMP and provides details for five scoping meetings to discuss and collect comments on the issues described in the issues and options document. Comments received by NMFS on the NOI and issues and options document as well as in the scoping meetings will be used in the development of Amendment 4 to the Consolidated HMS FMP.

DATES: Scoping meetings for Amendment 4 will be held in August and September 2008. See SUPPLEMENTARY INFORMATION for meeting dates, times, and locations. Written comments regarding the issues and options document and the May 27, 2008 (73 FR 30381), NOI must be received by October 31, 2008.

ADDRESSES: Scoping meetings will be held in Puerto Rico and the U.S. Virgin Islands (USVI). See SUPPLEMENTARY INFORMATION for dates, times, and locations. The issues and options document is available on the HMS website (http://www.nmfs.noaa.gov/sfa/hms/).

Written comments should be sent to Greg Fairclough, Highly Migratory Species Management Division, by any of the following methods:

• E-mail: noi.hms.caribbean@noaa.gov. Include the following identifier in the subject line: “NOI HMS Caribbean.”

• Written: 263 13th Avenue South, Saint Petersburg, FL 33701. Please mark the outside of the envelope “Scoping Comments on Amendment 4 to the Consolidated HMS FMP.”

• Fax: (727) 824-5398.

FOR FURTHER INFORMATION CONTACT: Greg Fairclough at (727) 824 -5399.

SUPPLEMENTARY INFORMATION: The Atlantic shark fisheries are managed under the authority of the Magnuson-Stevens Fishery Conservation and Management Act (Magnuson-Stevens Act), and the Atlantic tuna, swordfish, and billfish fisheries are managed under the Magnuson-Stevens Act and the Atlantic Tunas Convention Act (ATCA). Management of these species is described in the 2006 Consolidated HMS FMP, which is implemented by regulations at 50 CFR part 635. Copies of the Consolidated HMS FMP are available from NMFS on request (see FOR FURTHER INFORMATION CONTACT).

On May 27, 2008 (73 FR 30381), NMFS published an NOI that summarized its rationale for considering modifications to the current HMS permitting and reporting regime in the U.S. Caribbean. As such, NMFS is taking steps to amend current HMS management measures via an FMP amendment. The comment period for the NOI ends on October 31, 2008.

Request for Comments

Five scoping meetings will be held in Puerto Rico and the USVI (see Table 1 for meeting dates, times, and locations) to provide the opportunity for public comment on potential management measures. These comments will be used to assist in the development of the upcoming amendment to the Consolidated HMS FMP. Specifically, NMFS requests comments on the following issues and options: creating a small commercial vessel Caribbean HMS permit (valid for sharks, tunas, and swordfish); combining commercial Caribbean vessel and dealer permits (allowing vessels to sell/retail catch); modifying authorized gears [authorizing buoy gear in the Caribbean bigeye, albacore, yellowfin, and skipjack (BAYS) tuna fishery and allowing the presence of fish traps onboard a fishing vessel when retaining HMS]; and developing methods to improve reporting and data collection. NMFS also requests comments on any other fishery management issue pertaining to Caribbean HMS fisheries that the public believes should be further examined by NMFS.

Comments received on this action will assist NMFS in determining the scope of the EIS and the options for rulemaking to conserve and manage HMS resources and fisheries, consistent with the Magnuson-Stevens Act, ATCA, and the Consolidated HMS FMP.

NMFS also will present an issues and options presentation to the Caribbean, Gulf of Mexico, South Atlantic, Mid-Atlantic, and New England Fishery Management Councils. Please see the Councils' meeting notices for the times and locations of their summer meetings (see http://www.nmfs.noaa.gov for Council links). Finally, NMFS also expects to present an issues and options presentation at the fall 2008 HMS Advisory Panel (AP) meeting. The date and location of the HMS AP meeting will be announced in a future Federal Register notice.

Table 1. Dates, Times and Locations of the Scoping Meetings
Date | Time | Meeting Locations | Address
August 14, 2008 | 5:30 pm - 7:30 pm | St. Thomas, VI | USVI Department of Planning and Natural Resources, Cyril E. King Airport, Terminal Building, 2nd Floor, St. Thomas, VI 00802
September 8, 2008 | 3 pm - 5 pm | San Juan, PR | Biblioteca Carnegie, Ave. Ponce de León #7, San Juan, PR 00901-2010
September 9, 2008 | 4 pm - 6 pm | Fajardo, PR | Salón Centro de Usos Múltiples de Fajardo, Estacionamiento Municipal, Ültimo Piso, Esquina de Calle Dr. López y Calle Celis Aguilera, Fajardo, PR 00738
September 10, 2008 | 2 pm - 4 pm | Ponce, PR | Servicio de Extensión Agrícola, 2440 Ave. Las Americas, Ste. 208, Centro Gubernamental, Ponce, PR 00717-2111
September 11, 2008 | 7 pm - 9 pm | Mayagüez, PR | University of Puerto Rico, Mayagüez Campus, Physics Building, Room 310, Mayagüez, PR 00680

Scoping Meetings Code of Conduct

The public is reminded that NMFS expects participants at the scoping meetings to conduct themselves appropriately. At the beginning of each meeting, a representative of NMFS will explain the ground rules (e.g., alcohol is prohibited from the meeting room; attendees will be called to give their comments in the order in which they registered to speak; each attendee will have an equal amount of time to speak; attendees may not interrupt one another; etc.). The NMFS representative will structure the meeting so that all attending members of the public will be able to comment, if they so choose, regardless of the controversial nature of the subject(s). Attendees are expected to respect the ground rules, and those that do not will be asked to leave the meeting.

Special Accommodations

The meetings are physically accessible to people with disabilities. Requests for sign language interpretation or other auxiliary aids should be directed to Greg Fairclough (see FOR FURTHER INFORMATION CONTACT) at least 7 days prior to the meeting.

Dated: July 8, 2008.
Emily H. Menashes
Acting Director, Office of Sustainable Fisheries, National Marine Fisheries Service.

[FR Doc. E8-15986 Filed 7-11-08; 8:45 am]

BILLING CODE 3510-22-S